DEPARTMENT OF COMMERCE

National Oceanic and Atmospheric Administration

[I.D. 041306C]

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will hold a work session, which is open to the public.

DATES: The HMSMT work session will be held on Monday, May 8, 2006, from 8 a.m. until 5 p.m. and on Tuesday, May 9, 2006, beginning at 8 a.m. until business is completed.

ADDRESSES: The work sessions will be held at the U.S. Tuna Foundation Conference Room, 1 Tuna Lane, San Diego, CA 92101; telephone: (619) 233-6407

Council address: Pacific Fishery Management Council, 7700 NE Ambassador Place, Suite 200, Portland, OR 97220-1384.

FOR FURTHER INFORMATION CONTACT: Dr. Kit Dahl, Pacific Fishery Management Council; telephone: (503) 820-2280.

SUPPLEMENTARY INFORMATION: The HMSMT work session will take up the following assignments: developing management reference points for selected highly migratory species, planning the 2006 Stock Assessment and Fishery Evaluation Report, discussing North Pacific albacore management issues (U.S.-Canada Albacore treaty, historical fishing effort and potential effort controls) and other workload planning tasks. After the regular meeting ends, a subgroup of the HMSMT will discuss issues related to the implementation of an exempted fishing permit (EFP) pertaining to fishing during the annual August 15 through November 15 prohibition on drift gillnet fishing in Federal and state waters in Monterey Bay, CA and vicinity north to the 45° N Latitude intersect with the Oregon Coast (66 FR 44549).

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: April 18, 2006.
Tracey L. Thompson,
Acting Director, Office of Sustainable Fisheries, National Marine Fisheries Service.

[FR Doc. E6-5998 Filed 4-20-06; 8:45 am]

BILLING CODE 3510-22-S